DEPARTMENT OF THE INTERIOR

Bureau of Land Management

[LLMTL060000 L14400000.FR0000 18XL1109AF; MO#4500114300; MTM 108768]

Notice of Realty Action: Recreation and Public Purposes Act Classification, Montana

AGENCY: Bureau of Land Management, Interior.

ACTION: Notice of realty action.

SUMMARY: The Bureau of Land Management (BLM) has examined certain public lands in Teton County, Montana, and found them suitable for classification for conveyance to the Montana Department of Fish, Wildlife and Parks (MT FWP) under the provisions of the Recreation and Public Purposes (R&PP) Act, as amended, and the Taylor Grazing Act.

DATES: Submit written comments regarding this proposed classification on or before September 13, 2018. Absent any adverse comments, the classification takes effect on September 28, 2018.

ADDRESSES: Mail written comments to the Bureau of Land Management, Field Manager, Lewistown Field Office, Bynum Reservoir R&PP, 920 Northeast Main, Lewistown, MT 59457. Detailed information is available for review during business hours, 8 a.m. to 4:30 p.m. Mountain Time, Monday through Friday, except during Federal holidays, at the BLM Lewistown Field Office. Comments also may be hand delivered to the BLM Lewistown Field Office, or faxed to (406) 538-1958. The BLM will not consider comments received via telephone calls or email.

FOR FURTHER INFORMATION CONTACT: Debbie Tucek, Realty Specialist, telephone: 406-538-1900; email: dtucek@blm.gov. Persons who use a telecommunications device for the deaf may call the Federal Relay Service (FRS) at 1-800-877-8339 to leave a message or question for the above individual. The FRS is available 24 hours a day, 7 days a week. You will receive a reply during normal business hours.

SUPPLEMENTARY INFORMATION: The 80 acres of land proposed for conveyance to MT FWP must conform to the plat of survey. The legal description of the lands proposed for conveyance is set forth below. The MT FWP has not applied for more than the 6,400-acre limitation for recreation uses in a year, nor more than 640 acres for each of the programs involving public resources other than recreation.

The MT FWP has submitted a statement in compliance with the regulations at 43 CFR 2741.4(b), and proposes to use the land for recreation purposes. Existing facilities include a boat ramp, restroom facilities, and primitive campsites to enhance fishing and other recreational pursuits.

The legal description of the lands examined and identified as suitable for conveyance under the R&PP Act is:

Principal Meridian, Montana

T. 26 N, R. 6 W,

Sec. 31, NE¼SE¼; and

Sec. 32, SE¼SW¼.

The lands described aggregate approximately 80 acres in Teton County, Montana. The lands are not needed for any Federal purposes.

Conveyance of the lands for recreational purposes is consistent with the BLM Headwaters Resource Management Plan, dated July 1984, and would be in the national interest.

All interested parties will receive a copy of this notice once it is published in the Federal Register. A copy of the Federal Register notice with information about this proposed realty action will be published in a newspaper of local circulation once a week for 3 consecutive weeks. The regulations at 43 CFR subpart 2741 that address the requirements and procedures for conveyances under the R&PP Act do not require a public meeting.

Upon publication of this notice in the Federal Register, the lands will be segregated from all other forms of appropriation under the public land laws, including location under the mining laws, except for conveyance under the R&PP Act and leasing under the mineral leasing laws. The segregative effect of this classification will terminate upon patent, or will automatically expire 18 months after issuance of this notice if the lands under application are not conveyed.

The conveyance of the land, when issued, will be subject to the following terms, conditions, and reservations:

1. A right-of-way thereon for ditches and canals constructed by the authority of the United States Act of August 30, 1890 (43 U.S.C. 945).

2. Provisions of the R&PP Act and to all applicable regulations of the Secretary of the Interior.

3. All mineral deposits in the land so patented, and the right to prospect for, mine and remove such deposits from the same under applicable law and regulations as established by the Secretary of the Interior are reserved to the United States, together with all necessary access and exit rights.

4. Valid existing rights.

5. An appropriate indemnification clause protecting the United States from claims arising out of the patentee's use, occupancy, or occupations on the patented lands.

6. Any other reservations that the authorized officer determines appropriate to ensure public access and proper management of Federal lands and interests therein.

7. Right-of-way MTGF 005233 issued to Teton Cooperative Reservoir Company for a reservoir, canal, and ditch.

8. A reversionary provision stating that the land conveyed shall revert to the United States upon a finding, after notice and opportunity for a hearing, that, without the approval of the Secretary of the Interior or his delegate, the patentee or its successor attempts to transfer title to or control over the lands to another, the lands have been devoted to a use other than that for which the lands were conveyed, the lands have not been used for the purpose for which the lands were conveyed for a 5-year period, or the patentee has failed to follow the approved development plan or management plan. Interested persons may submit comments involving the suitability of the land for recreation, including fishing and dispersed camping. Comments on the classification are restricted to whether the land is physically suited for the proposal, whether the use will maximize the future use or uses of the land, whether the use is consistent with local planning and zoning, or if the use is consistent with State and Federal programs.

Interested persons may submit comments regarding the specific use proposed in the application and plan of development and management, whether the BLM followed proper administrative procedures in reaching the decision, or any other factor not directly related to the suitability of the lands for conveyance to MT FWP for recreation, including dispersed camping and fishing sites.

Any adverse comments will be reviewed by the BLM State Director or other authorized official of the Department of the Interior, who may sustain, vacate, or modify this realty action. The lands will not be offered for conveyance until after the classification becomes effective.

Before including your address, phone number, email address, or other personal identifying information in any comment, be aware that your entire comment—including your personally identifiable information—may be made publicly available at any time. While you can ask the BLM in your comment to withhold your personally identifiable information from public review, we cannot guarantee that we will be able to do so.

(Authority: 43 CFR 2741.5)

Brett A. Blumhardt,
Acting Field Manager, Lewistown Field Office, Montana/Dakotas Bureau of Land Management.

[FR Doc. 2018-16229 Filed 7-27-18; 8:45 am]

BILLING CODE 4310-DN-P